INTERNATIONAL TRADE COMMISSION

[Investigation No. 337-TA-1286]

Certain Oil-Vaping Cartridges, Components Thereof, and Products Containing the Same; Commission Determination Not To Review an Initial Determination Granting in Part Complainant's Motion To Amend the Complaint and Notice of Investigation and To Terminate the Investigation With Respect to a Respondent

AGENCY: U.S. International Trade Commission.

ACTION: Notice.

SUMMARY: Notice is hereby given that the U.S. International Trade Commission has determined not to review an initial determination (“ID”) (Order No. 20) of the presiding administrative law judge (“ALJ”), granting in part complainant's motion to amend the complaint and notice of investigation and to terminate the investigation as to respondent BBTank USA, LLC (“BBTank”) based upon withdrawal of allegations in the complaint.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 10, 2021, based on a complaint filed on behalf of Shenzhen Smoore Technology Limited (“Smoore”) of China. 86 FR 62567-69 (Nov. 10, 2021). The complaint, as supplemented, alleged violations of section 337 of the Tariff Act of 1930, as amended, 19 U.S.C. 1337, in the importation into the United States, the sale for importation, or the sale within the United States after importation of certain oil-vaping cartridges, components thereof, and products containing the same by reason of infringement of certain claims of U.S. Patent Nos. 10,357,623; 10,791,763; 10,791,762; and U.S. Registered Trademark No. 5,633,060. Id. at 62567-68. The complaint further alleged that a domestic industry exists. Id. at 62568. The Commission's notice of investigation named numerous respondents including BBTank of Lambertville, Michigan; BoldCarts.com of Tempe, Arizona; Bold Crafts, Inc. of Irvine, California; Green Tank Technologies Corp. of Canada; Blinc Group Holdings, LLC of New York, New York; and BulkCarts.com of Canton, Michigan. Id. at 62568. The Office of Unfair Import Investigations (“OUII”) is also named as a party in this investigation. Id.

On February 1, 2022, Smoore filed a motion for leave to amend the complaint and notice of investigation pursuant to Commission Rule 210.14(b)(1), 19 CFR 210.14(b)(1). Specifically, Smoore's motion requests to: (1) Change the corporate entity name of Respondents BoldCarts.com and Bold Crafts, Inc., to Bold Crafts, LLC d/b/a Bold Carts and BoldCarts.com; (2) change the corporate entity name of Respondent Green Tank Technologies Corp. to Greentank Technologies Corp.; (3) change the corporate entity name of Blinc Group Holdings, LLC, to The Blinc Group Inc.; (4) change the corporate entity name of Respondent BulkCarts.com to Zachary R. Esquivel d/b/a ZRE Enterprises Inc. and ceramiccellcartridges.com; (5) substitute Respondent BBTank with proposed respondents DES Products Ltd. d/b/a O2VAPE and TCM Enterprises, LLC d/b/a O2VAPE; (6) terminate the investigation as to Respondent BBTank based on withdrawal of allegations in the complaint; (7) delete paragraph 148 of the complaint alleging trademark infringement by Respondent BBTank; (8) name additional proposed respondent AEG Holdings (HK) Ltd. n/k/a AVD Holdings Ltd.; and (9) replace Exhibit 36 to the complaint. See Order No. 20 at 1-2 (Feb. 23, 2022). OUII, BBTank, and proposed respondents DES Products Ltd. and TCM Enterprises, LLC, filed responses to Smoore's motion. Id. at 2.

On February 23, 2022, the ALJ issued the subject ID granting in part the motion. Id. at 11. The ID granted Smoore leave to amend the complaint and notice of investigation to: (1) Change the names of Respondents BoldCarts.com and Bold Crafts, Inc., to Bold Crafts, LLC d/b/a Bold Carts and BoldCarts.com; (2) change the name of Respondent Green Tank Technologies Corp. to Greentank Technologies Corp.; (3) change the name of Blinc Group Holdings, LLC, to The Blinc Group Inc.; and (4) replace Exhibit 36 to the complaint. Id. at 3-4, 10. The ID also found that Smoore's request to terminate BBTank from the investigation complies with Commission Rule 210.21(a)(1), 19 CFR 210.21(a)(1), and that no extraordinary circumstances warrant denying the request. Id. at 9-10. No petitions for review were filed.

The Commission has determined not to review the subject ID. The complaint and notice of investigation are amended as indicated above, and Respondent BBTank is hereby terminated from the investigation.

The Commission vote for this determination took place on March 18, 2022.

The authority for the Commission's determination is contained in section 337 of the Tariff Act of 1930, as amended, 19 U.S.C. 1337, and in Part 210 of the Commission's Rules of Practice and Procedure, 19 CFR part 210.

By order of the Commission.
Issued: March 18, 2022.
Lisa Barton,
Secretary to the Commission.

[FR Doc. 2022-06207 Filed 3-23-22; 8:45 am]

BILLING CODE 7020-02-P